DEPARTMENT OF THE INTERIOR

Fish and Wildlife Service

[FWS-R1-ES-2015-0151; FXES11120100000-156-FF01E00000]

Draft Habitat Conservation Plan and Draft Environmental Assessment; Kaufman Properties, Thurston County, Washington; Correction

AGENCY: Fish and Wildlife Service, Interior.

ACTION: Notice of availability; request for comments; correction.

SUMMARY: On October 21, 2015, we, the U.S. Fish and Wildlife Service (Service), announced receipt of an application from Kaufman Real Estate LLC, Kaufman Holdings Inc., and Liberty Leasing & Construction, Inc. (applicants), for an incidental take permit (ITP) pursuant to the Endangered Species Act of 1973, as amended (ESA). The notice contained an incorrect comment-period end date. The correct date is December 21, 2015. With this notice, we correct that error. If you sent a comment previously, you need not re-send the comment.

FOR FURTHER INFORMATION CONTACT: Tim Romanski, 360-753-5823. If you use a telecommunications device for the deaf, please call the Federal Information Relay Service at 800-877-8339.

SUPPLEMENTARY INFORMATION: In the Federal Register of October 21, 2015, in FR Doc. 2015-26692, on page 63830, in the third column, correct the DATES caption to read:

DATES: To ensure consideration, please submit written comments by December 21, 2015.

Dated: October 21, 2015.
Tina A. Campbell,
Division of Policy, Performance, and Management Programs, U.S. Fish and Wildlife Service.

[FR Doc. 2015-27236 Filed 10-26-15; 8:45 am]

BILLING CODE 4333-15-P